DEPARTMENT OF TRANSPORTATION

Federal Transit Administration

[FTA Docket No. FTA 2022-0030]

Agency Information Collection Activity Under OMB Review: Enhanced Mobility of Seniors and Individuals With Disabilities & Nonurbanized Area Formula Programs

AGENCY: Federal Transit Administration, Department of Transportation.

ACTION: Notice of request for comments.

SUMMARY: In accordance with the Paperwork Reduction Act of 1995, this notice announces the intention of the Federal Transit Administration (FTA) to request the Office of Management and Budget (OMB) to approve the extension of a currently approved information collection: Enhanced Mobility Seniors and Individuals with Disabilities & Nonurbanized Area Formula Programs.

DATES: Comments must be submitted before January 9, 2023.

ADDRESSES: To ensure that your comments are not entered more than once into the docket, submit comments identified by the docket number by only one of the following methods:

1. Website: www.regulations.gov. Follow the instructions for submitting comments on the U.S. Government electronic docket site. (Note: The U.S. Department of Transportation's (DOT's) electronic docket is no longer accepting electronic comments.) All electronic submissions must be made to the U.S. Government electronic docket site at www.regulations.gov. Commenters should follow the directions below for mailed and hand-delivered comments.

2. Fax: 202-366-7951.

3. Mail: U.S. Department of Transportation, 1200 New Jersey Avenue SE, Docket Operations, M-30, West Building, Ground Floor, Room W12-140, Washington, DC 20590-0001.

4. Hand Delivery: U.S. Department of Transportation, 1200 New Jersey Avenue SE, Docket Operations, M-30, West Building, Ground Floor, Room W12-140, Washington, DC 20590-0001 between 9 a.m. and 5 p.m., Monday through Friday, except Federal holidays.

Instructions: You must include the agency name and docket number for this notice at the beginning of your comments. Submit two copies of your comments if you submit them by mail. For confirmation that FTA has received your comments, include a self-addressed stamped postcard. Note that all comments received, including any personal information, will be posted and will be available to internet users, without change, to www.regulations.gov. You may review DOT's complete Privacy Act Statement in the Federal Register published April 11, 2000, (65 FR 19477), or you may visit www.regulations.gov. Docket: For access to the docket to read background documents and comments received, go to www.regulations.gov at any time. Background documents and comments received may also be viewed at the U.S. Department of Transportation, 1200 New Jersey Avenue SE, Docket Operations, M-30, West Building, Ground Floor, Room W12-140, Washington, DC 20590-0001 between 9:00 a.m. and 5:00 p.m., Monday through Friday, except Federal holidays.

FOR FURTHER INFORMATION CONTACT: Destiny Buchanan at (202) 493-8018, or email Destiny.Buchanan@dot.gov (Section 5310); Matt Lange at (312) 353-4118, or email Matthew.Lange@dot.gov (Section 5311)

SUPPLEMENTARY INFORMATION: Interested parties are invited to send comments regarding any aspect of this information collection, including: (1) the necessity and utility of the information collection for the proper performance of the functions of the FTA; (2) the accuracy of the estimated burden; (3) ways to enhance the quality, utility, and clarity of the collected information; and (4) ways to minimize the collection burden without reducing the quality of the collected information. Comments submitted in response to this notice will be summarized and/or included in the request for OMB approval of this information collection.

Title: 49 U.S.C. Section 5310—Enhanced Mobility of Seniors and Individuals with Disabilities Program & Section 5311—Nonurbananized Area Formula Programs.

OMB Number: 2132-0550.

Background: 49 U.S.C. 5310 Enhanced Mobility of Seniors and Individuals with Disabilities Program provides formula funding to states and designated recipients to meet the transportation needs of older adults and people with disabilities when the transportation service provided is unavailable, insufficient, or inappropriate to meeting these needs. Funds are apportioned based on each state's share of the population for these two groups. Formula funds are apportioned to designated recipients; for rural and small urban areas, this is the state Department of Transportation or a local government entity that operates a public transportation service, while in large urban areas, a designated recipient is chosen by the governor. Designated recipients have flexibility in how they select subrecipient projects for funding, but their decision process must be clearly noted in a state/program management plan. The selection process may be formula-based, competitive or discretionary, and subrecipients can include states or local government authorities, private non-profit organizations, and/or operators of public transportation. The program aims to improve mobility for older adults and people with disabilities by removing barriers to transportation service and expanding transportation mobility options. This program supports transportation services planned, designed, and carried out to meet the special transportation needs of seniors and individuals with disabilities in all areas—large urbanized (over 200,000), small urbanized (50,000-200,000), and rural (under 50,000). Eligible projects include both “traditional” capital investment and “nontraditional” capital or operating investment beyond the Americans with Disabilities Act (ADA) complementary paratransit services.

49 U.S.C. 5311—Formula Grants for Rural Areas Program provides capital, planning, and operating assistance to states to support public transportation in rural areas with populations of less than 50,000, where many residents often rely on public transit to reach their destinations. The program also provides funding for state and national training and technical assistance through the Rural Transportation Assistance Program. Eligible direct recipients are States and Indian Tribes. Eligible subrecipients include states and local governmental authorities, nonprofit organizations, and operators of public transportation or intercity bus service. The Tribal Transit program provides funding directly to federally recognized Indian Tribes for capital, operating, and planning purposes, through a formula and a competitive program.

Respondents: States or local governmental entities that operate a public transportation service, federally recognized Indian Tribes, and designated recipients; or eligible subrecipients.

Estimated Annual Number of Respondents: 523 respondents.

Estimated Total Annual Burden: 54,727 hours.

Frequency: Annual.

Nadine Pembleton,
Deputy Associate Administrator, Office of Administration.

[FR Doc. 2022-24582 Filed 11-9-22; 8:45 am]

BILLING CODE 4910-57-P